DEPARTMENT OF HOMELAND SECURITY

Federal Emergency Management Agency

[Docket ID FEMA-2020-0002]

Changes in Flood Hazard Determinations

AGENCY: Federal Emergency Management Agency, DHS.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Arizona:
Maricopa (FEMA Docket No.: B-2020). | City of Buckeye (19-09-2206P). | The Honorable Jackie A. Meck, Mayor, City of Buckeye, 530 East Monroe Avenue, Buckeye, AZ 85326. | Engineering Department, 530 East Monroe Avenue, Buckeye, AZ 85326. | Jun. 12, 2020 | 040039
Maricopa (FEMA Docket No.: B-2020). | City of Goodyear (19-09-2077P). | The Honorable Georgia Lord, Mayor, City of Goodyear, 190 North Litchfield Road, Goodyear, AZ 85338. | Engineering and Development Services, 14455 West Van Buren Street, Suite D101, Goodyear, AZ 85338. | Jun. 26, 2020 | 040046
Maricopa (FEMA Docket No.: B-2020). | City of Phoenix (20-09-0214P). | The Honorable Kate Gallego, Mayor, City of Phoenix, 200 West Washington Street, Phoenix, AZ 85003. | Street Transportation Department, 200 West Washington Street, 5th Floor, Phoenix, AZ 85003. | Jun. 26, 2020 | 040051
Maricopa (FEMA Docket No.: B-2015). | Town of Queen Creek (19-09-1906P). | The Honorable Gail Barney, Mayor, Town of Queen Creek, 22358 South Ellsworth Road, Queen Creek, AZ 85142. | Town Hall, 22358 South Ellsworth Road, Queen Creek, AZ 85142. | Jun. 5, 2020 | 040132
Maricopa (FEMA Docket No.: B-2020). | Unincorporated Areas of Maricopa County (19-09-0546P). | The Honorable Clint L. Hickman, Chairman, Board of Supervisors Maricopa County, 301 West Jefferson Street, 10th Floor Phoenix, AZ 85003. | Flood Control District of Maricopa County, 2801 West Durango Street, Phoenix, AZ 85009. | Jun. 12, 2020 | 040037
Maricopa (FEMA Docket No.: B-2020). | Unincorporated Areas of Maricopa County (19-09-1186P). | The Honorable Clint L. Hickman, Chairman, Board of Supervisors Maricopa County, 301 West Jefferson Street, 10th Floor Phoenix, AZ 85003. | Flood Control District of Maricopa County, 2801 West Durango Street Phoenix, AZ 85009. | Jun. 26, 2020 | 040037
Maricopa (FEMA Docket No.: B-2020). | Unincorporated Areas of Maricopa County (19-09-2206P). | The Honorable Clint L. Hickman, Chairman, Board of Supervisors Maricopa County, 301 West Jefferson Street, 10th Floor Phoenix, AZ 85003. | Flood Control District of Maricopa County, 2801 West Durango Street, Phoenix, AZ 85009. | Jun. 12, 2020 | 040037
Pima (FEMA Docket No.: B-2010). | City of Tucson (19-09-1100P). | The Honorable Jonathan Rothschild, Mayor, City of Tucson, 255 West Alameda Street, Tucson, AZ 85701. | Planning and Development Services Public Works Building, 201 North Stone Avenue, Tucson, AZ 85701. | Apr. 21, 2020 | 040076
Pima (FEMA Docket No.: B-2015). | Town of Marana (20-09-0131P). | The Honorable Ed Honea, Mayor, Town of Marana, 11555 West Civic Center Drive, Marana, AZ 85653. | Engineering Department Marana Municipal Complex, 11555 West Civic Center Drive, Marana, AZ 85653. | Apr. 29, 2020 | 040118
Pima (FEMA Docket No.: B-2015). | Unincorporated Areas of Pima County (19-09-0046P). | The Honorable Richard Elías, Chairman, Board of Supervisors Pima County, 130 West Congress Street, 11th Floor Tucson, AZ 85701. | Pima County Flood Control District, 201 North Stone Avenue, 9th Floor, Tucson, AZ 85701. | May 27, 2020 | 040073
Pima (FEMA Docket No.: B-2010). | Unincorporated Areas of Pima County (19-09-1762P). | The Honorable Richard Elías, Chairman, Board of Supervisors Pima County, 130 West Congress Street, 11th Floor Tucson, AZ 85701. | Pima County Flood Control District, 201 North Stone Avenue, 9th Floor, Tucson, AZ 85701. | Apr. 20, 2020 | 040073
Pima (FEMA Docket No.: B-2010). | Unincorporated Areas of Pima County (19-09-2213P). | The Honorable Richard Elías, Chairman, Board of Supervisors Pima County, 130 West Congress Street, 11th Floor Tucson, AZ 85701. | Pima County Flood Control District, 201 North Stone Avenue, 9th Floor Tucson, AZ 85701. | Apr. 24, 2020 | 040073
California:
Lake (FEMA Docket No.: B-2015). | Unincorporated Areas of Lake County (19-09-1042P). | The Honorable Tina Scott, Chair, Board of Supervisors Lake County, 255 North Forbes Street, Lakeport, CA 95453. | Lake County Department of Public Works, 255 North Forbes Street, Room 309, Lakeport, CA 95453. | Jun. 8, 2020 | 060090
Los Angeles (FEMA Docket No.: B-2002). | City of Santa Clarita (19-09-0909P). | The Honorable Marsha McLean, Mayor, City of Santa Clarita City Hall 23920 Valencia Boulevard, Suite 300, Santa Clarita, CA 91355. | City Hall Planning Department, 23920 Valencia Boulevard, Suite 300, Santa Clarita, CA 91355. | Apr. 6, 2020 | 060729
Nevada (FEMA Docket No.: B-2002). | Unincorporated Areas of Nevada County (19-09-0859P). | The Honorable Richard Anderson, Chairman, Board of Supervisors Nevada County, 950 Maidu Avenue, Nevada City, CA 95959. | Nevada County Eric W. Rood Administrative Center, 950 Maidu Avenue, Nevada City, CA 95959. | Apr. 6, 2020 | 060210
Riverside (FEMA Docket No.: B-2002). | City of Lake Elsinore (19-09-1886P). | The Honorable Steve Manos, Mayor, City of Lake Elsinore City Hall, 130 South Main Street, Lake Elsinore, CA 92530. | Engineering Department, 130 South Main Street, Lake Elsinore, CA 92530. | Apr. 7, 2020 | 060636
Riverside (FEMA Docket No.: B-2015). | Unincorporated Areas of Riverside County (19-09-0463P). | The Honorable Kevin Jeffries, Chairman, Board of Supervisors Riverside County, 4080 Lemon Street, 5th Floor, Riverside, CA 92501. | Riverside County Flood Control and Water Conservation District, 1995 Market Street, Riverside, CA 92501. | Jun. 8, 2020 | 060245
Riverside (FEMA Docket No.: B-2002). | Unincorporated Areas of Riverside County (19-09-1886P). | The Honorable Kevin Jeffries, Chairman, Board of Supervisors Riverside County, 4080 Lemon Street, 5th Floor, Riverside, CA 92501. | Riverside County Flood Control and Water Conservation District, 1995 Market Street, Riverside, CA 92501. | Apr. 7, 2020 | 060245
Sacramento (FEMA Docket No.: B-2002). | City of Elk Grove (19-09-0908P). | The Honorable Steve Ly, Mayor, City of Elk Grove City Hall, 8401 Laguna Palms Way, Elk Grove, CA 95758. | Public Works Department, 8401 Laguna Palms Way, Elk Grove, CA 95758. | Mar. 12, 2020 | 060767
Sacramento (FEMA Docket No.: B-2002). | Unincorporated Areas of Sacramento County (18-09-1752P). | The Honorable Patrick Kennedy, Chairman, Board of Supervisors Sacramento County, 700 H Street, Suite 2450, Sacramento, CA 95814. | Sacramento County Department of Water Resources, 827 7th Street, Suite 301, Sacramento, CA 95814. | Mar. 23, 2020 | 060262
San Bernardino (FEMA Docket No.: B-2015). | City of Colton (19-09-1360P). | The Honorable Frank J. Navarro, Mayor, City of Colton, 650 North La Cadena Drive, Colton, CA 92324. | Public Works Department, 160 South 10th Street, Colton, CA 92324. | May 1, 2020 | 060273
San Bernardino (FEMA Docket No.: B-2015). | Unincorporated Areas of San Bernardino County (19-09-1360P). | The Honorable Curt Hagman, Chairman, Board of Supervisors San Bernardino County, 385 North Arrowhead Avenue, 5th Floor, San Bernardino, CA 92415. | San Bernardino County Public Works Water Resources Department, 825 East 3rd Street, San Bernardino, CA 92415. | May 1, 2020 | 060270
San Diego (FEMA Docket No.: B-2002). | City of National City (19-09-0359P). | The Honorable Alejandra Sotelo-Solis, Mayor, City of National City, 1243 National City Boulevard, National City, CA 91950. | City Hall, 1243 National City Boulevard, National City, CA 91950. | Apr. 6, 2020 | 060293
San Diego (FEMA Docket No.: B-2020). | City of San Diego (19-09-1533P). | The Honorable Kevin L. Faulconer, Mayor, City of San Diego, 202 C Street, 11th Floor, San Diego, CA 92101. | Development Services Department, 1222 1st Avenue, MS 301, San Diego, CA 92101. | Jun. 22, 2020 | 060295
San Diego (FEMA Docket No.: B-2020). | City of Vista (19-09-1368P). | The Honorable Judy Ritter, Mayor, City of Vista, 200 Civic Center Drive, Vista, CA 92084. | City Hall, 200 Civic Center Drive, Vista, CA 92084. | Jun. 17, 2020 | 060297
San Luis Obispo (FEMA Docket No.: B-2010). | City of Morro Bay (18-09-0960P). | The Honorable John Headding, Mayor, City of Morro Bay, 595 Harbor Street, Morro Bay, CA 93442. | City Hall, 595 Harbor Street, Morro Bay, CA 93442. | Apr. 21, 2020 | 060307
Santa Clara (FEMA Docket No.: B-2015). | City of San Jose (19-09-1592P). | The Honorable Sam Liccardo, Mayor, City of San Jose, 200 East Santa Clara Street, 18th Floor San Jose, CA 95113. | Department of Public Works, 200 East Santa Clara Street Tower, 5th Floor, San Jose, CA 95113. | Jun. 1, 2020 | 060349
Shasta (FEMA Docket No.: B-2010). | City of Redding (19-09-0032P). | The Honorable Julie Winter, Mayor, City of Redding, 777 Cypress Avenue, 3rd Floor, Redding, CA 96001. | Permit Center Division, 777 Cypress Avenue, 1st Floor, Redding, CA 96001. | Apr. 9, 2020 | 060360
Shasta (FEMA Docket No.: B-2010). | Unincorporated Areas of Shasta County (19-09-0032P). | The Honorable Leonard Moty, Chairman, Board of Supervisors Shasta County, 1450 Court Street, Suite 308B, Redding, CA 96001. | Shasta County Public Works Department, 1855 Placer Street, Redding, CA 96001. | Apr. 9, 2020 | 060358
Sonoma (FEMA Docket No.: B-2020). | City of Healdsburg (19-09-2240P). | The Honorable Leah Gold, Mayor, City of Healdsburg, 401 Grove Street, Healdsburg, CA 95448. | Public Works Department, 401 Grove Street, Healdsburg, CA 95448. | Jun. 19, 2020 | 060378
Sonoma (FEMA Docket No.: B-2015). | Town of Windsor (19-09-0487P). | The Honorable Dominic Foppoli, Mayor, Town of Windsor, 9291 Old Redwood Highway, Building 400, Windsor, CA 95492. | Building Department, 9291 Old Redwood Highway, Windsor, CA 95492. | Apr. 17, 2020 | 060761
Florida:
St. Johns (FEMA Docket No.: B-2015). | Unincorporated Areas of St. Johns County (18-04-6491P). | The Honorable Jeb S. Smith, Chair, St. Johns County Board of Commissioners, 500 San Sebastian View, St. Augustine, FL 32084. | St. Johns County Permit Center, 4040 Lewis Speedway, St. Augustine, FL 32084. | Jun. 11, 2020 | 125147
St. Johns (FEMA Docket No.: B-2002). | Unincorporated Areas of St. Johns County (19-04-4728P). | The Honorable Jeb S. Smith, Chair, St. Johns County Board of Commissioners, 500 San Sebastian View, St. Augustine, FL 32084. | St. Johns County Permit Center, 4040 Lewis Speedway, St. Augustine, FL 32084. | Apr. 8, 2020 | 125147
St. Johns (FEMA Docket No.: B-2020). | Unincorporated Areas of St. Johns County (19-04-4794P). | The Honorable Jeb S. Smith, Chair, St. Johns County Board of Commissioners, 500 San Sebastian View, St. Augustine, FL 32084. | St. Johns County Permit Center, 4040 Lewis Speedway, St. Augustine, FL 32084. | Jun. 25, 2020 | 125147
St. Johns (FEMA Docket No.: B-2002). | Unincorporated Areas of St. Johns County (19-04-4958P). | The Honorable Jeb S. Smith, Chair, St. Johns County Board of Commissioners, 500 San Sebastian View, St. Augustine, FL 32084. | St. Johns County Permit Center, 4040 Lewis Speedway, St. Augustine, FL 32084. | Apr. 7, 2020 | 125147
St. Johns (FEMA Docket No.: B-2010). | Unincorporated Areas of St. Johns County (19-04-5378P). | The Honorable Jeb S. Smith, Chair, St. Johns County Board of Commissioners, 500 San Sebastian View, St. Augustine, FL 32084. | St. Johns County Permit Center, 4040 Lewis Speedway, St. Augustine, FL 32084. | May 5, 2020 | 125147
Hawaii:
Maui (FEMA Docket No.: B-2002). | Maui County (19-09-1599P). | The Honorable Michael P. Victorino, Mayor, County of Maui, 200 South High Street, Kalana O Maui Building 9th Floor, Wailuku, HI 96793. | County of Maui Planning Department, One Main Plaza, 2200 Main Street, Suite 315, Wailuku, HI 96793. | Apr. 6, 2020 | 150003
Maui (FEMA Docket No.: B-2020). | Maui County (19-09-1600P). | The Honorable Michael P. Victorino, Mayor, County of Maui, 200 South High Street, Kalana O Maui Building, 9th Floor, Wailuku, HI 96793. | County of Maui Planning Department, One Main Plaza, 2200 Main Street, Suite 315, Wailuku, HI 96793. | Jun. 22, 2020 | 150003
Idaho:
Ada (FEMA Docket No.: B-2002). | City of Boise (19-10-0196P). | The Honorable David Bieter, Mayor, City of Boise, P.O. Box 500, Boise, ID 83702. | City Hall, 150 North Capitol Boulevard, Boise, ID 83702. | Apr. 3, 2020 | 160002
Ada (FEMA Docket No.: B-2020). | Unincorporated Areas of Ada County (20-10-0034P). | The Honorable Kendra Kenyon, Chair of the Board District 3 Commissioner Ada County Courthouse, 200 West Front Street, 3rd Floor, Boise, ID 83702. | Ada County Courthouse, 200 West Front Street, Boise, ID 83702. | Jun. 19, 2020 | 160001
Blaine (FEMA Docket No.: B-2015). | City of Bellevue (19-10-1086P). | The Honorable Ned Burns, Mayor, City of Bellevue City Hall, 115 Pine Street, Bellevue, ID 83313. | City Hall, 115 Pine Street, Bellevue, ID 83313. | May 28, 2020 | 160021
Blaine (FEMA Docket No.: B-2002). | Unincorporated Areas of Blaine County (19-10-0919P). | The Honorable Jacob Greenberg, Chairman, Blaine County Commissioners, Blaine County Annex Building, 219 South 1st Avenue, Suite 300, Hailey, ID 83333. | Blaine County Planning & Zoning, 219 South 1st Avenue, Suite 208, Hailey, ID 83333. | Apr. 9, 2020 | 165167
Blaine (FEMA Docket No.: B-2015). | Unincorporated Areas of Blaine County (19-10-1086P). | The Honorable Jacob Greenberg, Chairman, Blaine County Commissioners, Blaine County Annex Building, 219 South 1st Avenue, Suite 300, Hailey, ID 83333. | Blaine County Planning & Zoning, 219 South 1st Avenue, Suite 208, Hailey, ID 83333. | May 28, 2020 | 165167
Illinois:
DuPage (FEMA Docket No.: B-2015). | City of Warrenville (20-05-1148P). | The Honorable David L. Brummel, Mayor, City of Warrenville, 28W701 Stafford Place, Warrenville, IL 60555. | City Hall, 28W701 Stafford Place, Warrenville, IL 60555. | Jun. 10, 2020 | 170218
DuPage (FEMA Docket No.: B-2002). | Village of Carol Stream (19-05-1848P). | The Honorable Frank Saverino, Mayor, Village of Carol Stream, 500 North Gary Avenue, Carol Stream, IL 60188. | Village Hall, 500 North Gary Avenue, Carol Stream, IL 60188. | Apr. 6, 2020 | 170202
Lake (FEMA Docket No.: B-2041). | Village of Riverwoods (20-05-1123P). | The Honorable John W. Norris, Mayor, Village of Riverwoods, 300 Portwine Road, Riverwoods, IL 60015. | Village Hall, 300 Portwine Road, Riverwoods, IL 60015. | Jul. 17, 2020 | 170387
Will (FEMA Docket No.: B-2015). | City of Aurora (20-05-0274P). | The Honorable Richard C. Irvin, Mayor, City of Aurora, 44 East Downer Place, Aurora, IL 60505. | City Hall, 44 East Downer Place Aurora, IL 60505. | Jun. 3, 2020 | 170320
Will (FEMA Docket No.: B-2024). | City of Naperville (20-05-0194P). | The Honorable Steve Chirico, Mayor, City of Naperville, City Hall, 400 South Eagle Street, Naperville, IL 60540. | City Hall, 400 South Eagle Street, Naperville, IL 60540. | Jul. 6, 2020 | 170213
Will (FEMA Docket No.: B-2010). | Unincorporated Areas of Will County (19-05-4930P). | The Honorable Lawrence M. Walsh, County Executive, Will County, Will County Office Building, 302 North Chicago Street, Joliet, IL 60432. | Land Use Department, 58 East Clinton Street, Suite 100, Joliet, IL 60432. | Apr. 24, 2020 | 170695
Will (FEMA Docket No.: B-2010). | Village of Mokena (19-05-4930P). | The Honorable Frank Fleischer, Village President, Village of Mokena, 11004 Carpenter Street, Mokena, IL 60448. | Village Hall, 11004 Carpenter Street, Mokena, IL 60448. | Apr. 24, 2020 | 170705
Williamson (FEMA Docket No.: B-2024). | City of Marion (20-05-1350P). | The Honorable Mike Absher, Mayor, City of Marion, 1102 Tower Square Plaza, Marion, IL 62959. | City Hall, 1102 Tower Square Plaza, Marion, IL 62959. | Jul. 10, 2020 | 170719
Indiana:
Hancock (FEMA Docket No.: B-2010). | Unincorporated Areas of Hancock County (19-05-3686P). | Mr. John Jessup, Commissioner, Hancock County, 111 South American Legion Place, Suite 219, Greenfield, IN 46140. | Hancock County Government Building, 111 South American Legion Place, Greenfield, IN 46140. | Apr. 24, 2020 | 180419
Marion (FEMA Docket No.: B-2002). | City of Indianapolis (20-05-0050X). | The Honorable Joe Hogsett, Mayor, City of Indianapolis, 2501 City-County Building, 200 East Washington Street, Indianapolis, IN 46204. | City Hall, 1200 Madison Avenue, Suite 100, Indianapolis, IN 46225. | Apr. 8, 2020 | 180159
Marion (FEMA Docket No.: B-2010). | City of Lawrence (19-05-3686P). | The Honorable Steve Collier, Mayor, City of Lawrence, 9001 East 59th Street, Lawrence, IN 46216. | City Hall, 9001 East 59th Street, Lawrence, IN 46216. | Apr. 24, 2020 | 180160
Marion (FEMA Docket No.: B-2002). | Town of Speedway (20-05-0050X). | Mr. Jacob Blasdel, Town Manager, Town of Speedway, 1450 North Lynhurst Drive, Speedway, IN 46224. | Town Hall, 1450 North Lynhurst Drive, Speedway, IN 46224. | Apr. 8, 2020 | 180162
Kansas:
Johnson (FEMA Docket No.: B-2002). | City of Olathe (19-07-0801P). | The Honorable Michael Copeland, Mayor, City of Olathe, 100 East Santa Fe Street, Olathe, KS 66051. | City Hall, 100 East Sante Fe Street, Olathe, KS 66051. | Apr. 9, 2020 | 200173
Leavenworth (FEMA Docket No.: B-2010). | Unincorporated Areas of Leavenworth County (19-07-1449P). | The Honorable Doug Smith, Chairman, Board of Leavenworth County Commissioners, County Courthouse, 300 Walnut Street, Suite 225, Leavenworth, KS 66048. | Leavenworth County Courthouse, 300 Walnut Street, Leavenworth, KS 66048. | May 8, 2020 | 200186
Michigan:
Macomb (FEMA Docket No.: B-2002). | Township of Macomb (19-05-3918P). | The Honorable Janet Dunn, Supervisor, Township of Macomb, 54111 Broughton Road, Macomb, MI 48042. | Township Hall, 54111 Broughton Road, Macomb, MI 48042. | Apr. 1, 2020 | 260445
Minnesota:
Olmsted (FEMA Docket No.: B-2020). | City of Rochester (19-05-2402P). | The Honorable Kim Norton, Mayor, City of Rochester City Hall, 201 4th Street Southeast, Room 281, Rochester, MN 55904. | City Hall, 201 4th Street Southeast, Rochester, MN 55904. | Jun. 18, 2020 | 275246
Olmsted (FEMA Docket No.: B-2020). | Unincorporated Areas of Olmsted County (19-05-2402P). | Mr. Jim Bier, County Board Chair, Olmsted County Board of Commissioners, 151 4th Street Southeast, Rochester, MN 55904. | Olmsted County Government Center, 151 4th Street Southeast, Rochester, MN 55904. | Jun. 18, 2020 | 270626
Nevada:
Carson City (FEMA Docket No.: B-2015). | City of Carson City (19-09-1428P). | The Honorable Robert L. Crowell, Mayor, City of Carson City, City Hall, 201 North Carson City, Suite 2, Carson City, NV 89701. | Building Division Permit Center, 108 East Proctor Street, Carson City, NV 89701. | May 28, 2020 | 320001
Washoe (FEMA Docket No.: B-2002). | City of Reno (19-09-0823P). | The Honorable Hillary Schieve, Mayor, City of Reno, P.O. Box 1900, Reno, NV 89505. | City Hall, 1 East 1st Street, Reno, NV 89501. | Apr. 7, 2020 | 320020
Washoe (FEMA Docket No.: B-2010). | City of Reno (19-09-0890P). | The Honorable Hillary Schieve, Mayor, City of Reno, P.O. Box 1900, Reno, NV 89505. | City Hall, 1 East 1st Street, Reno, NV 89501. | Apr. 15, 2020 | 320020
Washoe (FEMA Docket No.: B-2002). | City of Reno (19-09-1056P). | The Honorable Hillary Schieve, Mayor, City of Reno, P.O. Box 1900, Reno, NV 89505. | City Hall, 1 East 1st Street, Reno, NV 89501. | Apr. 6, 2020 | 320020
Washoe (FEMA Docket No.: B-2002). | City of Reno (19-09-1298P). | The Honorable Hillary Schieve, Mayor, City of Reno, P.O. Box 1900, Reno, NV 89505. | City Hall, 1 East 1st Street, Reno, NV 89501. | Mar. 12, 2020 | 320020
Washoe (FEMA Docket No.: B-2002). | Unincorporated Areas of Washoe County (19-09-0823P). | The Honorable Vaughn Hartung, Chairman, Board of Commissioners, Washoe County, 1001 East 9th Street, Building A, Reno, NV 89512. | Washoe County Administration Building, Department of Public Works, 1001 East 9th Street, Reno, NV 89512. | Apr. 7, 2020 | 320019
Washoe (FEMA Docket No.: B-2002). | Unincorporated Areas of Washoe County (19-09-0887P). | The Honorable Vaughn Hartung, Chairman, Board of Commissioners, Washoe County, 1001 East 9th Street, Building A, Reno, NV 89512. | Washoe County Administration Building, Department of Public Works, 1001 East 9th Street, Reno, NV 89512. | Mar. 31, 2020 | 320019
Washoe (FEMA Docket No.: B-2002). | Unincorporated Areas of Washoe County (19-09-1056P). | The Honorable Vaughn Hartung, Chairman, Board of Commissioners, Washoe County, 1001 East 9th Street, Building A, Reno, NV 89512. | Washoe County Administration Building, Department of Public Works, 1001 East 9th Street, Reno, NV 89512. | Apr. 6, 2020 | 320019
Washoe (FEMA Docket No.: B-2002). | Unincorporated Areas of Washoe County (19-09-1298P). | The Honorable Vaughn Hartung, Chairman, Board of Commissioners, Washoe County, 1001 East 9th Street, Building A, Reno, NV 89512. | Washoe County Administration Building, Department of Public Works, 1001 East 9th Street, Reno, NV 89512. | Mar. 12, 2020 | 320019
New Jersey:
Essex (FEMA Docket No.: B-2020). | Township of Belleville (20-02-0232P). | The Honorable Michael Melham, Mayor, Township of Belleville, 152 Washington Avenue, Belleville, NJ 07109. | Engineering Office, 152 Washington Avenue, Belleville, NJ 07109. | Jun. 1, 2020 | 340177
Essex (FEMA Docket No.: B-2020). | Township of Nutley (20-02-0232P). | The Honorable Dr. Joseph Scarpelli, Mayor, Township of Nutley, 1 Kennedy Drive, Nutley, NJ 07110. | Township Hall, 1 Kennedy Drive, Nutley, NJ 07110. | Jun. 1, 2020 | 340191
New York:
Onondaga (FEMA Docket No.: B-2010). | Town of Camillus (19-02-0665P). | Ms. Mary Ann Coogan, Supervisor, Town of Camillus, 4600 West Genesee Street, Syracuse, NY 13219. | Town Hall, 4600 West Genesee Street, Syracuse, NY 13219. | Jun. 19, 2020 | 360570
Ohio:
Warren (FEMA Docket No.: B-2002). | City of Lebanon (19-05-5135P). | The Honorable Amy Brewer, Mayor, City of Lebanon, City Hall, 50 South Broadway, Lebanon, OH 45036. | City Hall, 50 South Broadway, Lebanon, OH 45036. | Mar. 30, 2020 | 390557
Texas:
Dallas (FEMA Docket No.: B-2020). | City of Grand Prairie (19-06-1737P). | The Honorable Ron Jensen, Mayor, City of Grand Prairie, 317 West College Street, Grand Prairie, TX 75050. | City Development Center, 206 West Church Street, Grand Prairie, TX 75050. | Jun. 1, 2020 | 485472
Dallas (FEMA Docket No.: B-2020). | City of Irving (19-06-1737P). | The Honorable Rick Stopfer, Mayor, City of Irving, 825 West Irving Boulevard, Irving, TX 75060. | Capital Improvement Program Department, 825 West Irving Boulevard, Irving, TX 75060. | Jun. 1, 2020 | 480180
Tarrant (FEMA Docket No.: B-2010). | City of Fort Worth (19-06-1628P). | The Honorable Betsy Price, Mayor, City of Fort Worth, 200 Texas Street, Fort Worth, TX 76102. | Department of Transportation and Public Works, 200 Texas Street, Fort Worth, TX 76102. | May 1, 2020 | 480596
Tarrant (FEMA Docket No.: B-2015). | City of Fort Worth (19-06-3826P). | The Honorable Betsy Price, Mayor, City of Fort Worth, 200 Texas Street, Fort Worth, TX 76102. | Department of Transportation and Public Works, 200 Texas Street, Fort Worth, TX 76102. | Jun. 4, 2020 | 480596
Tarrant (FEMA Docket No.: B-2010). | City of Fort Worth (19-06-4087P). | The Honorable Betsy Price, Mayor, City of Fort Worth, 200 Texas Street, Fort Worth, TX 76102. | Department of Transportation and Public Works, 200 Texas Street, Fort Worth, TX 76102. | Apr. 17, 2020 | 480596
Tarrant (FEMA Docket No.: B-2015). | City of Grand Prairie (19-06-3826P). | The Honorable Ron Jensen, Mayor, City of Grand Prairie, 317 West College Street, Grand Prairie, TX 75053. | Community Development Center, 206 West Church Street, Grand Prairie, TX 75050. | Jun. 4, 2020 | 485472
Washington:
King (FEMA Docket No.: B-2010). | City of Auburn (19-10-0993P). | The Honorable Nancy Backus, Mayor, City of Auburn, 25 West Main Street, Auburn, WA 98001. | City Hall, 25 West Main Street, Auburn, WA 98001. | Apr. 17, 2020 | 530073
Wisconsin:
Waukesha (FEMA Docket No.: B-2015). | Village of Summit (19-05-5478P). | Mr. Jack Riley, Village President, Village of Summit, 37100 Delafield Road, Summit, WI 53066. | Village Hall, 2911 North Dousman Road, Oconomowoc, WI 53066. | Jun. 12, 2020 | 550663

[FR Doc. 2020-18423 Filed 8-20-20; 8:45 am]

BILLING CODE 9110-12-P